GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: Telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/OAP-5

SYSTEM NAME:

Federal Acquisition Institute (FAI) Online University.

SYSTEM LOCATION:

The system is managed by the Federal Acquisition Institute, located at 9820 Belvoir Road, Fort Belvoir VA 22060-5565. Contact the system manager for additional information.

SYSTEM LOCATION:

Individuals, public or private, who use the FAI Online University resources and who register for or take the online courses.

CATEGORIES OF RECORDS IN THE SYSTEM:

The system maintains a record of an individual and his/her course progress while attending online courses. Required information consists of name and e-mail. Additional information is voluntarily provided and may include: a. Contact data (home or business address including city, state, zip code, and country; and home or business telephone and fax number). b. Work-related information, including affiliated organization, business telephone, business fax number, and manager's e-mail. c. Training records, including course type selection, course progress, and course start/completion dates.

AUTHORITIES FOR MAINTENANCE OF THE SYSTEM:

40 U.S.C. Chapters 5, 31, and 33; Title 5 U.S.C. 4101, et seq.; E.O. 11348, as amended; E.O. 13111; and the Federal Procurement Policy Act (Pub. L. 93-400, as amended).

PURPOSE:

To maintain a system for providing acquisition and procurement training in order to promote the development of a professional Federal acquisition workforce, ensure availability of exceptional training, and improve Federal acquisition workforce management.

ROUTINE USES OF THE SYSTEM RECORDS, INCLUDING CATEGORIES OF USERS AND THEIR PURPOSES FOR USING THE SYSTEM:

System information may be accessed and used by authorized FAI employees, System Administrators, and contractors in the conduct of their official duties associated with tracking and administering training record and for system management purposes. In addition, information from this system may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of a civil or criminal law or regulation.

c. To duly authorized officials engaged in investigating or settling a grievance, complaint, or appeal filed by an individual who is the subject of the record.

d. To the Office of Personnel Management (OPM) and the Government Accountability Office (GAO) when the information is required for evaluation of the program.

e. To a Member of Congress or his or her staff on behalf of and at the request of the individual who is the subject of the record.

f. To an expert, consultant, or contractor of GSA in the performance of a Federal duty to which the information is relevant.

g. To the National Archives and Records Administration (NARA) for records management purposes.

h. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETRAINING, AND DISPOSING OF SYSTEM RECORDS:

STORAGE:

Information is electronically collected and stored on hard drives.

RETRIEVABILITY:

Records are retrievable by name.

SAFEGUARDS:

System records are safeguarded in accordance with the requirements of the Privacy Act and the Computer Security Act. Technical, administrative, and personnel security measures are implemented to ensure confidentiality and integrity of the system data that is stored, processed, and transmitted. Records are protected by passwords and other appropriate security measures.

RETENTION AND DISPOSAL:

Disposition of records is according to the National Archives and Records Administration (NARA) guidelines, as set forth in the GSA Records Maintenance and Disposition System handbooks OAD P 1820.2A and CIO P 1820.1, and authorized GSA records schedules.

SYSTEM MANAGER AND ADDRESS:

Director, Federal Acquisition Institute, c/o Defense Acquisition University, 9820 Belvoir Road, Fort Belvoir, VA 22060-5565.

NOTIFICATION PROCEDURES:

An individual may obtain information on whether the system contains his or her record by sending the request to Director, Federal Acquisition Institute, c/o Defense Acquisition University, 9820 Belvoir Road, Fort Belvoir, VA 22060-5565.

RECORD ACCESS PROCEDURES:

Individuals may access their own records using their own password. Requests from individuals for access to their records also may be requested from FAI by writing to the above address.

CONTESTING RECORD PROCEDURES:

GSA rules for access to systems of records, for contesting the contents of systems of records, and for appealing initial determinations are published in the Federal Register, 41 CFR part 105-64.

RECORD SOURCE CATEGORIES:

Information is obtained from individuals who register with FAI Online University.

[FR Doc. E8-8929 Filed 4-24-08; 8:45 am]

BILLING CODE 6820-34-P